DEPARTMENT OF COMMERCE

National Oceanic and Atmospheric Administration

[I.D. 082906E]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Monkfish Oversight Committee in September, 2006 to consider actions affecting New England fisheries in the exclusive economic zone (EEZ). Recommendations from this group will be brought to the full Council for formal consideration and action, if appropriate.

DATES: The meeting will be held on Monday, September 18, 2006, at 9:30 a.m.

ADDRESSES: The meeting will be held at the Hilton Garden Inn, One Thurber Street, Warwick, RI 02886; telephone: (401) 734-9600; fax: (401) 734-9700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review the Monkfish Plan Development Team's (PDT) analysis of target total allowable catch (TAC) alternatives and associated trip limits and days-at-sea (DAS) alternatives for consideration in Framework Adjustment 4. The Committee may propose eliminating some alternatives but will withhold making final recommendations until the next meeting, which will be held following an Advisory Panel meeting and prior to the November 6-8 New England Council meeting. The Committee will also review and complete development of other alternatives proposed for consideration in Framework Adjustment 4, including, but not limited to: eliminating the directed fishery; requiring vessels to install vessel monitoring systems (VMS) and to use the VMS to report daily catch information; backstop provisions to ensure that management measures achieve the target TACs on an ongoing basis; modification or elimination of the DAS carryover provision; and modification of the boundary of the North Carolina/Virginia area monkfish fishery.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 30, 2006.
Tracey L. Thompson,
Acting Director, Office of Sustainable Fisheries, National Marine Fisheries Service.

[FR Doc. E6-14613 Filed 9-1-06; 8:45 am]

BILLING CODE 3510-22-S